DEPARTMENT OF THE INTERIOR

Bureau of Land Management

[LLNV930000-L14300000.LET0000; NVN-83979; 10-08807:TAS:14x1109]

Public Land Order No. 7737; Withdrawal of Public Lands, 24 Areas of Critical Environmental Concern, Clark and Nye Counties; NV

AGENCY: Bureau of Land Management, Interior.

ACTION: Public Land Order.

SUMMARY: This order withdraws approximately 944,343 acres of public lands from location and entry under the United States mining laws for a period of 20 years to protect desert tortoise habitat, archaeological and cultural resources, and special wildlife and riparian values on 24 Areas of Critical Environmental Concern located in Clark and Nye Counties, Nevada.

DATES: Effective Date: October 30, 2009.

FOR FURTHER INFORMATION CONTACT: Jacqueline Gratton, Bureau of Land Management, Nevada State Office, (775) 861-6532.

Order

By virtue of the authority vested in the Secretary of the Interior by Section 204 of the Federal Land Policy and Management Act of 1976, 43 U.S.C. 1714, it is ordered as follows:

1. Subject to valid existing rights, the following described public lands are hereby withdrawn from location and entry under the United States mining laws (30 U.S.C. Ch. 2), to protect the following described Areas of Critical Environmental Concern (ACEC) sites:

Mount Diablo Meridian, Nevada

Amargosa Mesquite Trees ACEC (NVN 76865)

T. 16 S., R. 51 E.,

Sec. 35;

Sec. 36, SW¼.

T. 17 S., R. 51 E.,

Sec. 1, lots 3 and 4, S½NW¼, and S½;

Sec. 2;

Sec. 11, E½;

Secs. 12 and 13;

Sec. 14, E½;

Sec. 23, E½;

Secs. 24 and 25;

Sec. 26, E½;

Secs. 35 and 36.

Ash Meadows ACEC (NVN 76868)

T. 17 S., R. 50 E.,

Secs. 7 and 8;

Sec. 9, lots 1 to 12, inclusive;

Sec. 10, lots 1 to 8, inclusive;

Sec. 11;

Sec. 12, lots 1 to 15, inclusive;

Sec. 13;

Sec. 14, lots 1 to 10, inclusive, and lots 12 to 16, inclusive;

Sec. 15, lots 1 to 4, inclusive;

Sec. 17, W½NE¼, NW¼, SW¼, and W¼SE¼;

Sec. 18;

Sec. 19, lots 1, 2, and lots 5 to 10, inclusive, SE¼NW¼, and N½NE¼;

Sec. 20, NW¼ and N½SW¼;

Sec. 23, lots 1, 2, 5, and 6, N½SE¼, E½SW¼SE¼, and SE¼SE¼;

Secs. 24 and 25;

Sec. 26, NE¼NE¼, E½NW¼NE¼, S½NE¼, SW¼NW¼, and S½SE¼NW¼;

Sec. 30, lots 3 to 10, inclusive, E½SW¼, and W½SE¼;

Sec. 31;

Sec. 32, W½W½;

Sec. 36, NE¼ and N½SE¼.

T. 18 S., R. 50 E.,

Sec. 5;

Sec. 6, lots 1 and 2, lots 8 to 12, inclusive, S½NE¼, SE¼NW¼, E½SW¼, and W½W½SE¼;

Sec. 7, lots 4 to 10, inclusive, S½NE¼, E½NW¼, NE¼SW¼, and N½SE¼;

Sec. 8;

Sec. 9, W½NW¼ and SW¼;

Sec. 16, lot 2, W½NE¼, NW¼, N½SW¼, SE¼SW¼, and W½SE¼;

Secs. 17 to 22, inclusive;

Sec. 25, S½;

Sec. 26, W½;

Secs. 27, 28 and 29, and secs 33 to 36, inclusive.

T. 17 S., R. 51 E.,

Sec. 7;

Sec. 8, NW¼NE¼, W½SW¼NE¼, W½, and W½NW¼SE¼;

Sec. 17, S½NE¼NE¼, W½NE¼, SE¼NE¼, W½, and SE¼;

Secs. 18, 19, 20, 29 and 30;

Sec. 31, lots 1, 2, and 3, NE¼NE¼, W½NE¼, E½NW¼, NE¼SW¼, and SW¼SE¼;

Sec. 32, lots 1 to 4, inclusive, N½NW¼, and NE¼.

T. 18 S., R. 51 E.,

Sec. 17, E½E½;

Sec. 20, E½E½;

Sec. 29, S½ and E½NE¼;

Sec. 30, lots 3 and 4, E½SW¼ and SE¼;

Secs. 31 and 32.

Big Dune ACEC (NVN 76869)

T. 15 S., R. 48 E.,

Sec. 8, S½, unsurveyed;

Sec. 9, S½, unsurveyed;

Secs. 16 and 17, unsurveyed.

Arden Historic Sites ACEC (NVN 76866)

T. 22 S., R. 60 E.,

Sec. 32, W½NE¼NE¼NE¼, W½NE¼NE¼, SE¼NE¼NE¼, W½NE¼, W½NE¼SE¼NE¼, W½SE¼NE¼, W½NE¼NE¼NW¼, S½NE¼NW¼, E½NE¼NW¼NW¼, E½SW¼NW¼NW¼, W½SE¼NW¼NW¼, E½NE¼SW¼NW¼, W½SW¼NW¼, SE¼SW¼NW¼, W½NE¼SE¼NW¼, W½SE¼NW¼, SE¼SE¼NW¼, and S½;

Sec. 33, NE¼NE¼SW¼, W½NW¼NE¼SW¼, S½NE¼SW¼, NW¼SW¼, W½NE¼SW¼SW¼, W½SW¼SW¼, SE¼SW¼SW¼, E½NE¼SE¼SW¼, W½SE¼SW¼, W½SE¼SE¼SW¼, N½SE¼, SW¼SE¼, W½NE¼SE¼SE¼, and NW¼SE¼SE¼.

T. 23 S., R 60 E.,

Sec. 4, lots 1 to 4, inclusive, and S½N½;

Sec. 5, lots 1 to 4, inclusive, and S½N½.

Arrow Canyon ACEC (NVN 76867)

T. 14 S., R. 64 E.,

Sec. 10, NW¼, E½SW¼, and SE¼, unsurveyed;

Sec. 11, SW¼, unsurveyed;

Sec. 13, unsurveyed;

Sec. 14, N½ and SE¼, unsurveyed;

Sec. 15, NE¼ and E½NW¼, unsurveyed.

T. 14 S., R. 65 E.,

Sec. 7, lots 3 and 4, E½SW¼ and SE¼.

Bird Spring ACEC (NVN 76870)

T. 24 S., R. 59 E.,

Sec. 4, lots 1 and 2, and S½NE¼.

Coyote Springs Tortoise ACEC (NVN 76871)

T. 13 S., R. 63 E.,

Sec. 20, that part lying east of Right-of-Way Nev 060729 (U.S. Highway 93) and south of Right-of-Way Nev 065185 (Nevada State Highway 168);

Secs. 21, 22, 23, and 26, inclusive for those portions lying south of Right-of-Way Nev 065185 (Nevada State Highway 168);

Sec. 27;

Secs. 28, 29, and 33, inclusive for those portions lying east of U.S. Fish and Wildlife Service (FWS) Management Boundary;

Secs. 34 and 35.

T. 13½ S., R. 63 E.,

Sec. 33, that part lying east of FWS Management Boundary, unsurveyed;

Secs. 34 and 35, unsurveyed.

T. 14 S., R. 63.,

Secs. 2 and 3, unsurveyed;

Secs. 4 and 9, inclusive for those portions lying east of FWS Management Boundary, unsurveyed;

Secs. 10, 11, 14, and 15, unsurveyed;

Secs. 16 and 21, inclusive for those portions lying east of FWS Management Boundary, unsurveyed;

Secs. 22, 23, 26, and 27, unsurveyed;

Secs. 28 and 33, inclusive for those portions lying east of FWS Management Boundary, unsurveyed;

Secs. 34 and 35, unsurveyed.

T. 15 S., R. 63 E.,

Sec. 2, unsurveyed;

Secs. 3, 4, and 10, inclusive for those portions lying east of FWS Management Boundary, unsurveyed;

Secs. 11 and 14, unsurveyed;

Sec. 15, that part lying east of FWS Management Boundary, unsurveyed;

Secs. 18 to 21, inclusive for those portions lying south of FWS Management Boundary, unsurveyed;

Sec. 22, that part lying east and south of FWS Management Boundary, unsurveyed;

Secs. 27 to 34, inclusive, unsurveyed.

T. 16 S., R. 63 E.,

Secs. 3 to 10, inclusive, secs. 15 to 22, inclusive, and secs. 28 to 33, inclusive.

T. 17 S., R. 63 E.,

Secs. 7, 8, and 9, secs. 16 to 21, inclusive, and 28 to 31, inclusive;

Sec. 32, that part lying west of Powerline Right-of-Way NVN-53399.

T. 18 S., R. 63 E.,

Sec. 5, that part lying west of Powerline Right-of-Way NVN-53399;

Secs. 6, 7, 8, 17, 18, 19, 29, and 30, for those portions lying west of Powerline Right-of Way NVN-53399;

Sec. 31, lots 7, 8, 9, 15, 18, and NW¼NE¼.

T. 19 S., R. 63 E.,

Sec. 6, that part lying west of Powerline Right-of-Way NVN-53399.

Crescent Townsite ACEC (NVN 76872)

T. 28 S., R. 61 E.,

Sec. 29, SW¼ and W½SE¼, excluding patented lands;

Sec. 30, E½SE¼;

Sec. 32, W½NE¼ and E½NW¼.

Devil's Throat ACEC (NVN 76874)

T. 17 S., R. 70 E.,

Sec. 26.

Gold Butte Part A, ACEC (NVN 76875)

T. 14 S., R. 69 E.,

Secs. 24, 25, 26, 34, 35, and 36.

T. 15 S., R. 69 E.,

Secs. 1, 2, 3, 9, and 10;

Sec. 11, N½, N½SW¼, N½SE¼, SW¼SW¼, and SE¼SE¼;

Secs. 12 and 13;

Sec. 14, NE¼NE¼, S½NE¼, S½NW¼, NW¼NW¼, and S½;

Secs. 15 and 16;

Secs. 21 to 28, inclusive, and secs. 33 to 36, inclusive.

T. 16 S., R. 69 E.,

Secs. 1 to 4, inclusive, and 8 to 17, inclusive;

Secs. 20 to 28, inclusive, and 33 to 36, inclusive.

T. 17 S., R. 69 E.,

Secs. 1, 2, 3, and 11 to 14, inclusive;

Secs. 24, 25, and 36, excluding patented lands.

T. 18 S., R. 69 E.,

Sec. 1, excluding patented lands.

T. 14 S., R. 70 E.,

Sec. 1;

Secs. 10 to 36, inclusive.

T. 15 S., R. 70 E.,

Secs. 2 to 11, inclusive, and secs. 15 to 20, inclusive;

Secs. 21 and 22, excluding patented lands;

Secs. 28 to 33, inclusive.

T. 16 S., R. 70 E.,

Secs. 4 to 11, inclusive, and secs. 13 to 36, inclusive.

T. 17 S., R. 70 E.,

Secs. 1 to 36, inclusive.

T. 18 S., R. 70 E.,

Secs. 1 to 6, inclusive, secs. 10 to 15, inclusive, secs. 22 to 27, inclusive, secs. 34, 35, and 36, unsurveyed.

T. 13 S., R. 71 E.,

Secs. 32 and 33, that part lying west of Range Improvement (Fence) 0101.

T. 14 S., R. 71 E.,

Sec. 4, that part lying west of Range Improvement (Fence) 0101;

Secs. 5 to 8, inclusive;

Secs. 9, 10, and 15, inclusive for those portions lying west of Range Improvement (Fence) 0101;

Secs. 16 to 20, inclusive;

Sec. 21, that part lying northwest of NVCC 022455 Pipeline Right-of-Way;

Secs. 22 and 28, inclusive for those portions lying west of NVCC 022455 Pipeline Right-of-Way;

Secs. 29, 30, and 31.

T. 16 S., R. 71 E.,

Sec. 19;

Secs. 29 to 32, inclusive.

T. 17 S., R. 71 E.,

Secs. 4 to 10, inclusive, secs. 15 to 22, inclusive, and secs. 27 to 34, inclusive, unsurveyed.

T. 18 S., R. 71 E.,

Secs. 3 to 10, inclusive, secs. 15 to 22, inclusive, and secs. 27 to 34, inclusive, unsurveyed.

T. 19 S., R. 71 E.,

Secs. 3, 4, 9, 10, 15, 16, 21, and 22, unsurveyed;

Secs. 27 and 28, for those portions lying north of Withdrawal Reclamation Project (Wdl Recl Proj) of 1/31/1903.

Gold Butte Part B, ACEC (NVN 76876)

T. 17 S., R. 69 E.,

Secs. 22, 23, 26, 27, 34, and 35, excluding patented lands.

T. 18 S., R. 69 E.,

Secs. 2 and 3, excluding patented lands;

Secs 9 to 17, inclusive, excluding patented lands;

Secs. 20 to 29, inclusive, and secs. 32 to 36, inclusive.

T. 19 S., R. 69 E.,

Secs. 1 to 36, inclusive, excluding patented lands.

T. 20 S., R. 69 E.,

Secs. 1 to 17, inclusive;

Secs. 18, 19, and 20, inclusive for those portions lying northeast of the Bureau of Reclamation Project boundary;

Secs. 21 to 27, inclusive;

Secs. 28, 29, and 33, for those portions lying northeast of the Bureau of Reclamation Project boundary.

T. 18 S., R. 70 E.,

Secs. 7, 8, 9, secs. 16 to 21 inclusive, and secs. 28 to 33, inclusive, unsurveyed.

T. 19 S., R. 70 E.,

Secs. 1 to 36, inclusive, unsurveyed.

T. 20 S., R. 70 E.,

Secs. 1 to 11, inclusive, secs. 14 to 22, inclusive, and secs. 27 to 30, inclusive, unsurveyed.

T. 19 S., R. 71 E.,

Secs. 5 to 8, inclusive, secs. 17 to 20, inclusive, and secs. 29 and 30, unsurveyed;

Secs. 31 and 32, inclusive for those portions lying northeast of Bureau of Reclamation Project boundary.

Gold Butte Townsite ACEC (NVN 76877)

T. 19 S., R. 70 E.,

Sec. 17, S½NW¼ and N½SW¼, unsurveyed.

Hidden Valley ACEC (NVN 76878)

T. 18 S., R. 65 E.,

Sec. 26, W½, unsurveyed;

Sec. 27, E½, unsurveyed;

Secs. 34 and 35, unsurveyed.

T. 19 S., R. 65 E.,

Sec. 2, W½, unsurveyed;

Sec. 3, unsurveyed;

Sec. 10, N½, unsurveyed;

Sec. 11, NW¼, unsurveyed.

Keyhole Canyon ACEC (NVN 76879)

T. 26 S., R. 63 E.,

Sec. 3, lots 6, 7, and 8, and SW¼NE¼ and S½NW¼.

Mormon Mesa Tortoise ACEC (NVN 76880)

T. 13 S., R. 63 E.,

Sec. 25, lots 3, 4, 7, and 9, SW¼NW¼ and S½;

Sec. 36.

T. 13½ S., R. 63 E.,

Sec. 36, unsurveyed.

T. 14 S., R. 63 E.,

Sec. 1, unsurveyed.

T. 13 S., R. 64 E.,

Secs. 1 to 5, inclusive, unsurveyed;

Sec. 6, lots 1 and 2, S½NE¼ and SE¼, unsurveyed;

Sec. 7, NE¼ and E½SE¼, unsurveyed;

Secs. 8 to 17, inclusive, and secs. 20 to 29, inclusive, unsurveyed;

Sec. 30, that part lying south of Right-of-Way Nev 065185 (Nevada State Highway 168), unsurveyed;

Secs. 31 to 36, inclusive, unsurveyed.

T. 13½ S., R. 64 E.,

Secs. 31 to 35, inclusive, unsurveyed;

Sec. 36, that part lying north of Right-of-Way Nev 060130 (U.S. Highway 93), unsurveyed.

T. 14 S., R. 64 E.,

Secs. 2 to 6, inclusive, secs. 8 to 11, inclusive, and secs. 15 and 16, inclusive, unsurveyed.

T. 13 S., R. 65 E.,

Sec. 1, lots 2, 3, and 4, and SW¼NE¼, S½NW¼, SW¼, and W½SE¼;

Secs. 2 to 24, inclusive;

Sec. 26, N½;

Sec. 27, N½;

Sec. 28, N½ and SW¼;

Secs. 29 and 30;

Sec. 31, that part lying north of Right-of-Way Nev 060130 (U.S. Highway 93);

Sec. 32;

Sec. 33, W½.

T. 13 S., R. 66 E.,

Secs. 1 to 5, inclusive;

Sec. 6, lots 1 to 4, inclusive, and S½NE¼, SE¼NW¼, E½SW¼, and SE¼;

Sec. 7 to 18, inclusive;

Sec. 19, lots 1 to 4, inclusive, SE¼NW¼, E½SW¼, and SW¼SE¼;

Secs. 20 to 24, inclusive.

T. 13 S., R. 67 E.,

Secs. 1 to 36, inclusive.

T. 14 S., R. 67 E.,

Secs. 1 to 5, inclusive;

Sec. 6, lots 1 and 2, and S½NE¼ and SE¼;

Sec. 7, NE¼;

Secs. 8 to 11, inclusive;

Secs. 12 to 15, inclusive for those portions lying north of Right-of-Way Nev 061478 (U.S. Interstate 15);

Sec. 16;

Sec. 17, N½ and SE¼;

Sec. 20, E½;

Secs. 21 and 22, inclusive for those portions lying north of Right-of-Way Nev 061478 (U.S. Interstate 15).

T. 13 S., R. 68 E.,

Secs. 1 to 32, inclusive;

Secs. 33 to 36, inclusive for those portions lying north of Right-of-Way Nev 061478 (U.S. Interstate 15).

T. 14 S., R. 68 E.,

Secs. 4 to 7, inclusive for those portions lying north of Right-of-Way Nev 061478 (U.S. Interstate 15).

T. 13 S., R. 69 E.,

Secs. 1 to 24, inclusive;

Sec. 25, lots 1, 3, 12, and 15, N½ and N½SE¼;

Sec. 26, lots 1, 5, 8, 10, 11, and 14, and N½NE¼, SE¼NE¼, and NE¼NW¼;

Sec. 27, lots 1, 3, 5, 7, and 9;

Sec. 28, lots 1, 3, 5, and 8, and N½N½;

Sec. 29, lots 1, 5, 8, 11, and 13, and N½NE¼, SW¼NE¼, and NW¼;

Sec. 30, lots 5 to 10, inclusive, lots 12 to 16, inclusive, lots 18, 20, 23, and 26, NE¼ and NW¼SE¼.

T. 13 S., R. 70 E.,

Secs. 4 and 5, west of Boundary Line; **

Secs. 6 and 7;

Secs. 8, 9, and 17, west of Boundary Line;

Secs. 18 and 19;

Secs. 20 and 29, west of Boundary Line;

Sec. 30, lots 5, 6, 7, 9, 12, 14, and 16;

Sec. 31, lots 9 and 11, both portions north of Right-of-Way Nev 064785 (U.S. Interstate 15) centerline;

Sec. 32, lot 9.

**The “Boundary Line” as denoted in the above legal descriptions for the Mormon Mesa ACEC refers to the eastern boundary line of the ACEC, which closely follows the edge of the Mormon Mesa and Toquop Wash. However, the line is not on the Mormon Mesa edge, nor Toquop Wash, but follows closely between the two. The “Boundary Line” denoted for the eastern edge of the ACEC is shown on the 7.5 minute U.S. Geological Survey Flat Top Mesa Topographic Map.

Piute/Eldorado Tortoise ACEC (NVN 76881)

T. 28 S., R. 60 E.,

Secs. 2, 3, 10, and 11;

Sec. 13, W½ and SE¼;

Secs. 14 to 17, inclusive, and secs. 21, 22, and 23;

Sec. 24, excluding patented lands;

Secs. 25 and 26, for both portions lying north of Right-of-Way Nev 058548 (Nevada State Highway 164);

Sec. 26, that part lying north of Right-of-Way Nev 058548 (Nevada State Highway 164);

Sec. 27.

T. 26 S., R. 61 E.,

Secs. 1 and 2, secs. 11 to 14, inclusive, and secs. 24, 25, and 36.

T. 27 S., R. 61 E.,

Secs. 1, 12, and 13, secs. 23 to 26, inclusive, secs. 35 and 36.

T. 28 S., R. 61 E.,

Secs. 1 and 2, and secs. 10 to 12, inclusive;

Secs. 13, 14, and 15, for those portions lying north of Right-of-Way Nev 058548 (Nevada State Highway 164);

Sec. 16;

Sec. 19, excluding patented lands;

Sec. 20, that part lying north of Right-of-Way Nev 058548 (Nevada State Highway 164) and excluding patented lands;

Secs. 21, 22, 29, and 30, inclusive for those portions lying north of Right-of-Way Nev 058548 (Nevada State Highway 164).

T. 29 S., R. 61 E.,

Sec. 36.

T. 26 S., R. 62 E.,

Secs. 3 to 10, inclusive, and secs. 15 to 20, inclusive;

Sec. 22, E½ and N½NW¼;

Secs. 23 to 26, inclusive;

Sec. 27, NE¼;

Secs. 29 to 32, inclusive, and secs. 35 and 36.

T. 27 S., R. 62 E.,

Sec. 1, secs. 5 to 8, inclusive, and sec.12;

Sec. 13, E½;

Secs. 17 to 20, inclusive;

Sec. 24, E½;

Sec. 25, E½;

Secs. 29 to 36, inclusive.

T. 28 S., R. 62 E.,

Secs. 1 to 17, inclusive;

Sec. 18, that part lying north of Right-of-Way Nev 058548 (Nevada State Highway 164);

Secs. 20 and 21;

Sec. 22, N½, N½SW¼ and SE¼;

Secs. 23 to 26, inclusive;

Sec. 27, NE¼, S½NW¼, and S½;

Secs. 28 and 29;

Sec. 31, lots 14 and 15, N½SE¼, excluding patented lands;

Secs. 32 to 36, inclusive.

T. 29 S., R. 62 E.,

Secs. 1 to 5, inclusive;

Sec. 6, E½;

Secs. 7 to 32, inclusive;

Sec. 33, NE¼NE¼ and NW¼NW¼;

Secs. 34 to 36, inclusive.

T. 30 S., R. 62 E.,

Secs. 1 and 2;

Secs. 11 to 14, inclusive.

T. 27 S., R. 62½ E.,

Secs. 1, 12, 13, 24, 25, and 36, unsurveyed.

T. 26 S., R. 63 E.,

Sec. 19;

Sec. 20, that part lying west of Right-of-Way NVCC 020733 (U.S. Highway 95) and south of Powerline Right-of-Way N-00869;

Secs. 21 to 25, inclusive for those portions lying south of Powerline Right-of-Way N-00869;

Secs. 26 to 36, inclusive.

T. 27 S., R. 63 E.,

Secs. 1 to 36, inclusive.

T. 28 S., R. 63 E.,

Secs. 1 to 11, inclusive excluding patented lands;

Sec. 12, lots 1 to 8, inclusive, and N½;

Sec. 13, lots 1, 2, and 3, and NW¼NE¼, S½NE¼, NW¼, N½SW¼, and SE¼;

Sec. 14, lots 1 and 8, and N½;

Sec. 15 to 20 inclusive excluding patented lands;

Sec. 29, that part lying north of Right-of-Way Nev 058548 (Nevada State Highway 164);

Sec. 30, excluding SE¼NE¼ that part lying south of Right-of-Way Nev 058548 (Nevada State Highway 164) and excluding E½SE¼;

Sec. 31;

Sec. 32, W½SW¼ and SE¼SW¼.

T. 29 S., R. 63 E.,

Secs. 5 to 10, inclusive, and secs. 15 to 22, inclusive;

Secs. 23, 24, and 25, for those portions lying west of Right-of-Way NVCC 020845 (U.S. Highway 95);

Secs. 26 to 36, inclusive.

T. 30 S., R. 63 E.,

Secs. 1 to 16, inclusive, and secs. 21 to 29, inclusive excluding patented lands;

Secs. 32 to 36, inclusive excluding patented lands.

T. 31 S., R. 63 E.,

Sec. 1, lots 3 and 4, and S½NW¼ and SW¼;

Sec. 2;

Sec. 3, lots 1, 2, and 3, and S½NE¼, SE¼NW¼, and S½;

Sec. 4, lot 4, and SW¼NW¼;

Secs. 5, 8, 10, and 11;

Sec. 12, W½ and W½SE¼;

Sec. 13, W½ and W½E½;

Secs. 14, 15, secs. 22 to 26, inclusive, and 36.

T. 26 S., R. 64 E.,

Secs. 29 and 30, inclusive for those portions lying south of Powerline Right-of-Way N-00869;

Secs. 31, 32, and 33.

T. 27 S., R. 64 E.,

Secs. 4 to 9, inclusive, and secs. 16 to 23, inclusive;

Secs. 25 to 36, inclusive, excluding patented lands.

T. 28 S., R. 64 E.,

Secs. 1 to 18, inclusive, excluding patented lands;

Secs. 21 to 26, inclusive, and 35 and 36.

T. 29 S., R. 64 E.,

Secs. 1, 2, 3, secs. 9 to 16, inclusive, secs. 21 to 28, inclusive, and secs. 31 to 36, inclusive.

T. 30 S., R. 64 E.,

Secs. 1 to 29, inclusive;

Sec. 31, lots 3 and 4, lots 13 to 68, inclusive, and E½NE¼, E½SW¼, and SE¼;

Secs. 32 to 36, inclusive.

T. 31 S., R. 64 E.,

Secs. 1 to 31, inclusive;

Sec. 32, N½ and SW¼;

Secs. 33 to 36, inclusive.

T. 32 S., R. 64 E.,

Secs. 1, 2, and 3;

Sec. 4, lots 1 and 2, lots 5 to 24, inclusive, lots 34 to 47, inclusive, lots 59 to 82, inclusive, and lots 84 to 128, inclusive, and S½SE¼NW¼, SW¼, S½NE¼SE¼, SE¼NW¼SE¼, E½SW¼SE¼, and SE¼SE¼;

Sec. 5, lots 6 to 9, inclusive, lots 12 and 13, lots 15 to 22, inclusive, lots 25 to 29, inclusive, lots 32 to 37, inclusive, lots 40 to 45, inclusive, lots 47 to 78, inclusive, and SW¼NE¼, SE¼NW¼, and NW¼SE¼;

Secs. 6 and 8;

Sec. 9, lots 1, 2, 7, and 8, lots 10 to 21, inclusive, lots 27 to 30, inclusive, lots 38 to 41, inclusive, lots 48, 49, 56, 63, 75, 76, 77, and lots 79 to 84, inclusive, and SW¼NE¼ and NW¼SE¼;

Secs. 10 to 16, inclusive, secs. 22 to 26, inclusive, and sec. 36.

T. 30 S., R. 65 E.,

Secs. 4 to 9, unsurveyed excluding patented lands;

Sec. 16, unsurveyed;

Secs. 17 and 18, inclusive, excluding patented lands, unsurveyed;

Secs. 19, 20, 21, 30 and 31, unsurveyed.

T. 31 S., R. 65 E.,

Sec. 6, and secs. 28 to 33, inclusive, unsurveyed.

T. 32 S., R. 65 E.,

Secs. 2 to 8, inclusive;

Secs. 9 to 12, inclusive for those portions lying north and west of Right-of-Way NVCC-022416 (Nevada State Highway 163);

Secs. 17 to 20, inclusive, and secs. 29 to 32, inclusive.

T. 33 S., R. 65 E.,

Sec. 5.

Rainbow Gardens ACEC (NVN 76882)

T. 20 S., R. 62 E.,

Sec. 12;

Sec. 13, lots 1, 2, 15, 16, 24, and 25;

Sec. 35, lots 1 to 4, inclusive;

Sec. 36.

T. 21 S., R. 62 E.,

Sec. 1, 12 and 13;

Sec. 14, E½.

T. 20 S., R. 63 E.,

Sec. 1, N½, NW¼NE¼SW¼, N½NW¼SW¼, SW¼NW¼SW¼, SW¼SW¼, and W½SE¼SW¼, unsurveyed;

Secs. 2 and 7, unsurveyed;

Sec. 8, W½, unsurveyed;

Sec. 11, excluding patented lands, unsurveyed;

Sec. 12, NW¼NW¼ and W½SW¼, unsurveyed;

Sec. 13, W½NE¼NW¼, W½NW¼, W½SE¼NW¼, SW¼, S½NE¼SE¼, W½NW¼SE¼, and S½SE¼, unsurveyed;

Secs. 14 to 34, inclusive, unsurveyed.

T. 21 S., R. 63 E.,

Sec. 3 to 10 inclusive, and Sec. 16 to 18, inclusive;

Sec. 19, N½ and SE¼;

Sec. 20;

Sec. 21, N½, SW¼, N½SE¼, and SW¼SE¼.

T. 20 S., R. 64 E.,

Sec. 4 and 5;

Sec. 8, N½ and SE¼;

Secs. 9 and 16;

Sec. 19, lots 7 and 8, and SE¼SW¼;

Sec. 20, S½NE¼, NE¼SW¼, S½SW¼, and SE¼;

Sec. 21;

Secs. 28, 29, and 30.

Red Rock Spring ACEC (NVN 76883)

T. 17 S., R. 70 E.,

Sec. 7, SE¼;

Sec. 8, SW¼;

Sec. 17, NW¼;

Sec. 18, NE¼.

River Mountains ACEC (NVN 76884)

T. 21 S., R. 63 E.,

Sec. 36, N½.

T. 22 S., R. 63 E.,

Secs. 11, 12, and 13;

Sec. 23, E½;

Secs. 24 and 25;

Sec. 26, E½;

Sec. 36.

T. 22 S., R. 63½ E.,

Secs. 12, 13, 24, 25, and 36.

T. 23 S., R. 63½ E.,

Sec. 1, lots 1 to 7, inclusive, and S½NE¼.

Sloan Rock Art ACEC (NVN 76885)

T. 23 S., R. 61 E.,

Sec. 35, S½S½.

T. 24 S., R. 61 E.,

Sec. 2, lots 1 to 4, inclusive.

Stump Spring ACEC (NVN 76886)

T. 22 S., R. 55 E.,

Sec. 32, S½.

T. 23 S., R. 55 E.,

Sec. 5, lots 1 to 4, inclusive, and S½N½.

Virgin Mountain (Gold Butte Part C) ACEC (NVN 76887)

T. 15 S., R. 70 E.,

Sec. 1;

Secs. 12, 13, and 14, Sec. 23 to 27, inclusive, and Sec. 34, 35, and 36.

T. 16 S., 70 E.,

Secs. 1, 2, 3, and 12.

T. 14 S., 71 E.,

Secs. 32, 33, and 34.

T. 15 S., 71 E.,

Secs. 3 to 10, inclusive, Sec. 15 to 22 inclusive, and Sec. 27 to 34, inclusive, unsurveyed.

T. 16 S., 71 E.,

Secs. 3 to 10, inclusive, and Sec. 15 to 18, inclusive;

Secs. 20 and 21;

Sec. 22, lots 1 and 2, E½NW¼ and NE¼SW¼;

Sec. 27, lots 2, 3, and 4, SE¼NW¼ and E½SW¼;

Secs. 28, 33, and 34.

T. 17 S., 71 E.,

Sec. 3, unsurveyed.

Virgin River ACEC (NVN 76888)

T. 14 S., R. 69 E.,

Sec. 11, SE¼;

Sec. 12, W½NE¼, NW¼, and NW¼SW¼;

Sec. 14, N½NE¼, NW¼, N½SW¼, and SE¼SW¼;

Sec. 15, SE¼;

Sec. 22, NE¼ and S½;

Secs. 26, 27, and 28, for those portions of public land lying north of Gold Butte Back Country Byway Road;***

Sec. 29, S½;

Sec. 32, N½, SW¼, and SE¼SE¼;

Sec. 33, public land lying north of Gold Butte Back Country Byway Road.

T. 13 S., R. 70 E.,

Sec. 27, lots 8, 10, 17, 19, and 21, and that part lying south of Right-of-Way Nev 065014 (U.S. Interstate 15);

Sec. 33, lots 1, 11, 13, 15, and 17, SW¼, N½SE¼, and SW¼SE¼, that part lying south of Right-of-Way Nev 065014 (U.S. Interstate 15);

Sec. 34, lots 1 to 4, inclusive, 6, 10, and 11 and NW¼NW¼, that part lying south of Right-of-Way Nev 65014 (U.S. Interstate 15) and north of Right-of-Way Nev 07490 (Nevada State Highway 170).

T. 14 S., R. 70 E.,

Sec. 3, lot 4, that portion lying north of Right-of-Way Nev 07490 (Nevada State Highway 170);

Secs. 4 and 5, those portions lying northwest of Right-of-Way Nev 07490 (Nevada State Highway 170);

Sec. 6, lots 1, 2, 6, and 7, S½NE¼, E½SW¼, and SE¼;

Secs. 7 and 8, those portions lying north of Right-of-Way Nev 07490 (Nevada State Highway 170);

***The Gold Butte Back Country Byway is a Clark County, Nevada Revised Statute 2477 road.

Whitney Pocket ACEC (NVN 76889)

T. 16 S., R. 70 E.,

Sec. 23, SE¼.

The areas described above aggregate approximately 944,343 acres in Clark and Nye Counties.

2. The withdrawal made by this order does not alter the applicability of those public land laws governing the use of the land under lease, license, or permit, or governing the disposal of their mineral or vegetative resources other than under the mining laws. This Order also does not alter the applicability of the mineral leasing, geothermal leasing, or mineral materials laws.

3. This withdrawal will expire 20 years from the effective date of this order unless, as a result of a review conducted before the expiration date pursuant to Section 204(f) of the Federal Land Policy and Management Act of 1976, 43 U.S.C. 1714(f), the Secretary determines that the withdrawal shall be extended.

Dated: October 28, 2009.
Wilma A. Lewis,
Assistant Secretary, Land and Minerals Management.

[FR Doc. E9-26372 Filed 10-29-09; 11:15 am]

BILLING CODE 4310-HC-P